DEPARTMENT OF HOUSING AND URBAN DEVELOPMENT

[Docket No. FR-5481-N-10]

Notice of Proposed Information Collection: Comment Request; Application for Displacement/Relocation/Temporary Relocation Assistance for Person

AGENCY: Office of the Assistant Secretary for Community Planning and Development, HUD.

ACTION: Notice.

Summary: The proposed information collection requirement described below will be submitted to the Office of Management and Budget (OMB) for review, as required by the Paperwork Reduction Act. The Department is soliciting public comments on the subject proposal.

Dates: Comments Due Date: October 3, 2011.

ADDRESSES: Interested persons are invited to submit comments regarding this proposal. Comments should refer to the proposal by name and/or OMB Control Number and should be sent to: Rudene Thomas, Reports Liaison Officer, Department of Housing and Urban Development, 451 7th Street, SW., Room 7256, Washington, DC 20410.

FOR FURTHER INFORMATION CONTACT: Janice Olu, Relocation Specialist, Relocation and Real Estate Division, DGHR, Department of Housing and Urban Development, 451 Seventh Street, SW., Room 7168, Washington DC 20410; e-mail Janice.P.Olu@hud.gov, (202) 708-2684. This is not a toll-free number. Copies of the proposed forms and other available documents submitted to OMB may be obtained from HUD's Web site at http://www.hud.gov/offices/cpd/library/relocation/forms.cfm or from Ms. Olu.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Application for Displacement/Relocation/Temporary Relocation Assistance for Person.

OMB Control Number, if applicable: 2506-0016.

Description of the need for the information and proposed use: Application for displacement/relocation assistance for persons (families, individuals, businesses, nonprofit organizations and farms) displaced by, or temporarily relocated for, certain HUD programs. No changes are being made for Forms HUD-40030, HUD-40054, 40055, HUD-40056, HUD-40057, HUD-40058, HUD-40061, and HUD-40072.

Agency form numbers, if applicable: HUD-40030, HUD-40054, HUD-40055, HUD-40056, HUD-40057, HUD-40058, HUD-40061, and HUD-40072.

Estimation of the total numbers of hours needed to prepare the information collection including number of respondents, frequency of response, and hours of response.

Status of the proposed information collection: Renewal.

Number of Respondents: 37,800.

Frequency of Response: 3.

Hours per Response: .8.

Total Estimated Burden Hours: 91,000 (no change).

Authority: The Paperwork Reduction Act of 1995, 44 U.S.C., Chapter 35, as amended.

Dated: July 15, 2011.
Clifford Taffet,
General Deputy Assistant Secretary.

[FR Doc. 2011-19574 Filed 8-2-11; 8:45 am]

BILLING CODE 4210-67-P